DEPARTMENT OF HEALTH AND HUMAN SERVICES

National Institutes of Health

National Cancer Institute Amended: Notice of Meeting

Notice is hereby given of a change in the meeting of the National Cancer Institute Special Emphasis Panel, May 31, 2018, 08:00 p.m. to June 01, 2018, 12:00 p.m., Canopy Washington DC Bethesda North, 940 Rose Avenue, North Bethesda, MD 20852 which was published in the Federal Register on May 04, 2018, 83 FR 19789.

This meeting notice is amended to change the meeting start time from 8:00 p.m. to 8:00 a.m. on May 31, 2018. The meeting is closed to the public.

Dated: May 10, 2018.
Melanie J. Pantoja,
Program Analyst, Office of Federal Advisory Committee Policy.

[FR Doc. 2018-10351 Filed 5-14-18; 8:45 am]

BILLING CODE 4140-01-P